DEPARTMENT OF HEALTH AND HUMAN SERVICES

Health Resources and Services Administration

Supplemental Award to the National Network for Oral Health Access

AGENCY: Health Resources and Services Administration, HHS.

ACTION: Notice.

SUMMARY: HRSA announces the award of a supplement in the amount of $250,000 for a HRSA-funded cooperative agreement awarded to the National Network for Oral Health Access (NNOHA). The supplement, awarded on September 25, 2017, will fund demonstration projects to increase the integration of oral health and primary care practice through the adoption of HRSA's core clinical oral health competencies for non-dental health care providers in Health Center (HC) settings, focusing on services for pregnant women and children.

SUPPLEMENTARY INFORMATION: Intended Recipient of the Award: National Network for Oral Health Access.

Amount of Non-Competitive Awards: $250,000.

Budget Periods of Supplemental Funding: July 1, 2017, through June 30, 2018.

CFDA Number: 93.110.

Authority: Special Projects of Regional and National Significance program (Social Security Act, Title V, § 501(a)(2) (42 U.S.C. 701(a)(2)).

Justification: The National Network for Oral Health Access (NNOHA) supports goals to improve access to oral health care, increase awareness of the connection between oral health and overall health, prevent disease and promote oral health, and improve health literacy to health providers and patients alike. HRSA developed a core set of oral health clinical competencies for non-dental providers as part of its Integration of Oral Health and Primary Care Practice (IOHPCP) initiative in response to recommendations from two Institute of Medicine (IOM) reports: Advancing Oral Health in America and Improving Access to Oral Health Care for Vulnerable and Underserved Populations. NNOHA participated in the IOHPCP initiative and in fiscal year (FY) 2012 received supplemental funding (U30CS09745-05-02) to implement a pilot project in safety net settings to inform the impact and effectiveness of oral health core clinical competencies and inter-professional collaboration in primary care settings. The goal of the project was to increase integration of oral health and primary health care. NNOHA published the pilot project results in a user guide entitled, User's Guide for Implementation of inter-professional oral health core clinical competencies and continues to provide technical assistance to health centers and training on oral health integration and primary care practice.

The Joint Explanatory Statement to the Consolidated Appropriations Act of FY 2017 encouraged HRSA to allocate $250,000 for demonstration projects to support the implementation of integrating oral health and primary care projects. The projects are to model the core clinical oral health competencies for non-dental providers that HRSA published and initially tested in its 2014 report, Integration of Oral Health and Primary Care Practice. In order to achieve this goal, HRSA will provide supplemental funding to the NNOHA to advance and expand the implementation of oral health core clinical competencies in health centers, focusing on services for pregnant women and children. Additionally, these demonstration projects will directly align with four HRSA recommendations for effectively incorporating the competencies into clinical practice as described in the 2014 Integrating Oral Health and Primary Care Practice report. This activity is consistent with the current work plan of NNOHA and includes providing training and technical assistance on IOHPCP. NNOHA's primary roles are to coordinate all activities at the planning, implementation, evaluation, and dissemination stages, as well as provide technical assistance and training to participating HCs. NNOHA shall select no fewer than six HCs, which it supports as part of the current HRSA-funded National Training and Technical Assistance Cooperative Agreement Program (U30CS29051). NNOHA will assure that each HC will propose, implement, and track data for an innovative inter-professional oral health project that measurably increases the adoption of the core clinical oral health competencies among non-dental providers in the delivery of care to pregnant women and children.

FOR FURTHER INFORMATION CONTACT: Chinyere Amaefule, Office of Quality Improvement, Division of Strategic Partnerships, Bureau of Primary Health Care, Health Resources and Services Administration, 5600 Fishers Lane, Rockville, Maryland 20857, Phone: (301) 594-4417, Email: Camaefule@hrsa.gov.

Grantee/organization name | Grant No. | State | FY 2017 authorized funding level | FY 2017-2018 estimated supplemental amount
National Network of Oral Health Access | U30CS29051 | CO | $500,000 | $250,000

Dated: November 14, 2017.
George Sigounas,
Administrator.

[FR Doc. 2017-25191 Filed 11-20-17; 8:45 am]

BILLING CODE 4165-15-P